MORRIS K. UDALL AND STEWART L. UDALL FOUNDATION

Sunshine Act Meetings

TIME AND DATE: 9:00 a.m. to 1:30 p.m. (PDT), Thursday, October 28, 2021.

PLACE: The University of Arizona President's Office Conference Room, Old Main, Room 200, 1200 East University Boulevard, Tucson, Arizona 85721.

STATUS: This meeting will be open to the public. Due to COVID-19, members of the public who would like to attend this meeting may request remote access by contacting Elizabeth Monroe at monroe@udall.gov prior to October 28 to obtain the teleconference connection information.

MATTERS TO BE CONSIDERED: (1) Call to Order and Chair's Remarks; (2) University of Arizona President's Remarks and Welcome; (3) Executive Director's Remarks; (4) Consent Agenda Approval (Minutes of the April 28, 2021, Board of Trustees Meeting; Board Reports submitted for Education Programs; Finance and Internal Controls; John S. McCain III National Center for Environmental Conflict Resolution; Native Nations Institute for Leadership, Management, and Policy and its Work Plan; The University of Arizona Libraries, Special Collections; Udall Center for Studies in Public Policy and its Work Plan; resolutions regarding Allocation of Funds to the Udall Center for Studies in Public Policy and The University of Arizona Libraries, Special Collections and Funds Set Aside for the Native Nations Institute for Leadership, Management, and Policy; and Board takes notice of any new and updated personnel policies and internal control methodologies); (5) Update on and Board Takes Notice of 2022-2026 Udall Foundation Strategic Plan Final Draft; (6) Update on and Board Takes Notice of U.S. Department of the Interior Office of Inspector General Preliminary Audit Findings and Recommendations; (7) Planning for Morris K. Udall Centennial Birthday Celebration; (8) Udall Foundation Grants, Gifts, and Donation Policy Update; (9) Leveraging Udall Foundation Funding to Expand and Enhance the University of Arizona Programs; (10) Native American Graduate Fellowship Program Update; and (11) Native American and Alaska Native (NAAN) and Climate Service Areas Update.

CONTACT PERSON FOR MORE INFORMATION: David P. Brown, Executive Director, 130 South Scott Avenue, Tucson, AZ 85701, (520) 901-8500.

Dated: October 6, 2021.
David P. Brown,
Executive Director, Morris K. Udall and Stewart L. Udall Foundation, and Federal Register Liaison Officer.

[FR Doc. 2021-22197 Filed 10-7-21; 8:45 am]

BILLING CODE 6820-FN-P